DEPARTMENT OF ENERGY

Federal Energy Regulatory Commission

[Docket No. RP02-407-000]

Pine Needle LNG Company, L.L.C.; Notice of Tariff Filing

August 6, 2002.

Take notice that on August 1, 2002 Pine Needle LNG Company, L.L.C. (Pine Needle) tendered for filing as part of its FERC Gas Tariff, Volume No. 1, Fourth Revised First Revised Sheet No. 4, to become effective September 1, 2002.

Pine Needle states that the tariff sheet submitted in the filing reflects a general rate increase. Pine Needle states that the cost of service proposed in the filing is $21,074,411, compared to a cost of service of $20,332,566 underlying Pine Needle's rates found just and reasonable in Docket No. CP96-52, as more fully described in the filing. Pine Needle states that the principal factor supporting the increase in cost of service is an increase in rate of return and related taxes.

Pine Needle further states that the filing reflects the following as related to its pre-filed methods: (1) A proposal to leave unchanged the annual depreciation rate of 2.5% for its operating facilities and (2) proposes an amortization rate of 10% for its in-house developed software—major systems Pine Needle states that copies of the filing are being mailed to each of its affected customers, interested State Commissions, and other interested parties.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20318 Filed 8-9-02; 8:45 am]

BILLING CODE 6717-01-P